DEPARTMENT OF COMMERCE

National Oceanic and Atmospheric Administration

50 CFR Part 622

[Docket No. 100217097-1757-02]

RIN 0648-XC981

Reef Fish Fishery of the Gulf of Mexico; 2013 Accountability Measure and Closure for Hogfish in the Gulf of Mexico

AGENCY: National Marine Fisheries Service (NMFS), National Oceanic and Atmospheric Administration (NOAA), Commerce.

ACTION: Temporary rule; closure.

SUMMARY: NMFS implements accountability measures (AMs) for the commercial and recreational sectors for hogfish in the exclusive economic zone (EEZ) of the Gulf of Mexico (Gulf) for the 2013 fishing year through this temporary final rule. Based on the commercial and recreational landings, NMFS determined that the stock (commercial and recreational) annual catch limit (ACL) for Gulf hogfish has been reached. Therefore, NMFS closes the commercial and recreational sectors for hogfish in the Gulf EEZ at 12:01 a.m., local time, December 2, 2013, until January 1, 2014. This closure is necessary to protect the Gulf hogfish resource.

DATES: This rule is effective 12:01 a.m., local time on December 2, 2013, until 12:01 a.m., local time on January 1, 2014, unless changed by subsequent notification in the Federal Register.

FOR FURTHER INFORMATION CONTACT: Rich Malinowski, Southeast Regional Office, telephone 727-824-5305, email rich.malinowski@noaa.gov.

SUPPLEMENTARY INFORMATION: The reef fish fishery of the Gulf, which includes hogfish, is managed under the Fishery Management Plan for the Reef Fish Resources of the Gulf of Mexico (Reef Fish FMP). The Reef Fish FMP was prepared by the Gulf of Mexico Fishery Management Council (Council) and is implemented through regulations at 50 CFR part 622 under the authority of the Magnuson-Stevens Fishery Conservation and Management Act (Magnuson-Stevens Act).

On December 29, 2011, NMFS published the final rule for the Generic Annual Catch Limits/Accountability Measures Amendment to the Red Drum, Reef Fish Resources, Shrimp, and Coral and Coral Reefs Fishery Management Plans for the Gulf of Mexico (Generic ACL Amendment; 76 FR 82044) as prepared and submitted by the Council. This final rule, in part, implemented changes to the Reef Fish FMP, including setting a stock ACL and implementing AMs for Gulf hogfish.

The Gulf hogfish stock ACL is 208,000 lb (94,347 kg), round weight, as specified in 50 CFR 622.41(p).

In accordance with regulations at 50 CFR 622.41(p), if the sum of commercial and recreational landings exceed the stock ACL in a fishing year, then if the stock ACL is again reached or projected to be reached in the following fishing year, NMFS is required to close the commercial and recreational sectors for hogfish for the remainder of that following fishing year. NMFS determined that the stock ACL for Gulf hogfish was exceeded in the 2012 fishing year. Based on 2013 commercial and recreational landings, NMFS has determined that the stock ACL of 208,000 lb (94,347 kg), round weight, for Gulf hogfish has been reached for the 2013 fishing year. Therefore, NMFS implements the in-season AM and the commercial and recreational harvest of Gulf hogfish will close at 12:01 a.m., local time on December 2, 2013, until 12:01 a.m., local time on January 1, 2014.

Classification

The Regional Administrator, Southeast Region, NMFS, has determined this temporary rule is necessary for the conservation and management of Gulf hogfish and is consistent with the Magnuson-Stevens Act and other applicable laws.

This action is taken under 50 CFR 622.41(p) and is exempt from review under Executive Order 12866.

These measures are exempt from the procedures of the Regulatory Flexibility Act because the temporary rule is issued without opportunity for prior notice and comment.

This action responds to the best scientific information available. Pursuant to 5 U.S.C. 553(b)(B), there is good cause to waive the requirements to provide prior notice and opportunity for public comment on this temporary rule because such procedures are unnecessary. The AMs state that NMFS will file a notification with the Office of the Federal Register to close the commercial and recreational sectors for Gulf hogfish for the remainder of the fishing year if landings reach or are projected to reach the stock ACL specified in 50 CFR 622.41(p) in the year following an overage of the hogfish stock ACL. All that remains is to notify the public of the reduced fishing season for hogfish for the remainder of the fishing year.

Allowing prior notice and opportunity for public comment is contrary to the public interest because of the need to immediately implement this action to protect the hogfish resource. Any delay in the closure could result in the stock ACL for hogfish being exceeded further.

For the aforementioned reasons, the Assistant Administrator, NMFS, also finds good cause to waive the 30-day delay in the effectiveness of this action under 5 U.S.C. 553(d)(3).

Authority: 16 U.S.C. 1801 et seq.

Dated: November 27, 2013.
Emily H. Menashes,
Deputy Director, Office of Sustainable Fisheries, National Marine Fisheries Service.

[FR Doc. 2013-28907 Filed 11-27-13; 4:15 pm]

BILLING CODE 3510-22-P